Proclamation 8584 of October 8, 2010

Columbus Day, 2010

By the President of the United States of America

A Proclamation

Over five centuries ago, Christopher Columbus set sail across the Atlantic Ocean in search of a new trade route to India. The findings of this explorer from Genoa, Italy, would change the map of the world and forever alter the course of human history.

When Columbus’s crewmembers came ashore in the Americas, they arrived in a world previously unknown to his contemporaries in Europe. Columbus returned to the Caribbean three more times after his maiden voyage in 1492, convinced of the vast potential of what he had seen. His expeditions foreshadowed the journey across the seas for millions of courageous immigrants who followed. As they settled, they joined indigenous communities with thriving cultures. Today, we reflect on the myriad contributions tribal communities have made to our Nation and the world, and we remember the tremendous suffering they endured as this land changed.

For more than 500 years, women and men from every corner of the globe have embarked on journeys to our shores as did Columbus. Some have sought refuge from religious or political oppression, and others have departed nations ravaged by war, famine, or economic despair. Columbus charted a course for generations of Italians who followed his crossing to America. As Italy marks the 150th anniversary of its unification this year, we celebrate the incalculable contributions of Italian Americans, whose determination, hard work, and leadership have done so much to build the strength of our Nation.

What Columbus encountered over half a millennia ago was more than earth or continent. His epic quest into the unknown may not have revealed the new trade route he sought, but it exposed the boundless potential of a new frontier. It is this intrepid character and spirit of possibility that has come to define America, and is the reason countless families still journey to our shores.

In commemoration of Christopher Columbus’ historic voyage 518 years ago, the Congress, by joint resolution of April 30, 1934, and modified in 1968 (36 U.S.C. 107), as amended, has requested the President proclaim the second Monday of October of each year as “Columbus Day.”

NOW, THEREFORE, I, BARACK OBAMA, President of the United States of America, do hereby proclaim October 11, 2010, as Columbus Day. I call upon the people of the United States to observe this day with appropriate ceremonies and activities. I also direct that the Flag of the United States be displayed on all public buildings on the appointed day in honor of Christopher Columbus.

IN WITNESS WHEREOF, I have hereunto set my hand this eighth day of October, in the year of our Lord two thousand ten, and of the Independence of the United States of America the two hundred and thirty-fifth.

[FR Doc. 2010-26219

Filed 10-14-10; 11:15 am]

Billing code 3195-W1-P